BUREAU OF CONSUMER FINANCIAL PROTECTION

Withdrawal of Submission for OMB Review; Comment Request

AGENCY: Bureau of Consumer Financial Protection.

ACTION: Notice of withdrawal.

SUMMARY: On May 15, 2012, the Bureau of Consumer Financial Protection (Bureau) published a notice and request for comment in this Register, 77 FR 29571. The notice invited the general public and other Federal agencies to comment for 30 days on a proposed information collection request, entitled “Generic Clearance for Collection of Information on Compliance Costs and Other Effects of Regulations.” At this time, the Bureau wishes to give notice that it is withdrawing that request and has published a revised request which will be available for a 60-day public comment period. The revised notice and request for comment was published on June 14, 2012, in this Register 77 FR XXXX, and is entitled “Generic Clearance for Collection of Information on Compliance Costs and Other Effects of Regulations.” Any comments the Bureau has received thus far from the withdrawn notice will be considered along with the comments the Bureau receives in connection with the revised 60-day notice.

FOR FURTHER INFORMATION CONTACT: Requests for additional information should be directed to the Consumer Financial Protection Bureau, (Attention: PRA Office), 1700 G Street NW., Washington, DC 20552, (202) 435-9011, or through the internet at CFPB_Public_PRA@cfpb.gov.

Dated: June 14, 2012.
Chris Willey,
Chief Information Officer, Bureau of Consumer Financial Protection.

[FR Doc. 2012-15259 Filed 6-21-12; 8:45 am]

BILLING CODE 4810-AM-P